FEDERAL COMMUNICATIONS COMMISSION

47 CFR Part 73

[MB Docket No. 14-139, RM-11732; DA 14-1273]

Television Broadcasting Services; Mount Vernon, Illinois; Correction

AGENCY: Federal Communications Commission.

ACTION: Proposed rule; correction.

SUMMARY: This document corrects the preamble to a proposed rule published in the Federal Register of September 12, 2014, requesting the substitution of channel 11 for channel 21 at Mount Vernon, Illinois. This correction clarifies that the proposed rule applies prospectively to plans submitted for approval from the effective date for the final rule.

DATES: September 30, 2014.

ADDRESSES: Federal Communications Commission, Office of Secretary, 445 12th Street SW., Washington, DC 20554. In addition to filing comments with the FCC, interested parties should serve counsel for petitioner as follows: Robert L. Olender, Esq., Koerner & Olender, P.C., 11913 Grey Court, North Bethesda, MD 20852.

FOR FURTHER INFORMATION CONTACT: Joyce Bernstein, 202-418-1600.

Correction

In proposed rule FR Doc. 14-1273, beginning on page 54675 in the issue of September 12, 2014, make the following correction, in the Addresses section. On page 54675 in the 3rd paragraph, replace the listed paragraph with the following:

“Federal Communications Commission, Office of Secretary, 445 12th Street SW., Washington, DC 20554. In addition to filing comments with the FCC, interested parties should serve counsel for petitioner as follows: Robert L. Olender, Esq., Koerner & Olender, P.C., 11913 Grey Court, North Bethesda, MD 20852.”

Dated: September 22, 2014.
Barbara A. Kreisman,
Chief, Video Division, Media Bureau.

[FR Doc. 2014-23134 Filed 9-29-14; 8:45 am]

BILLING CODE 6712-01-P